DEPARTMENT OF ENERGY

Federal Energy Regulatory Commission

Combined Notice of Filings

Take notice that the Commission has received the following Natural Gas Pipeline Rate and Refund Report filings:

Filings Instituting Proceedings

Docket Number: PR20-3-000.

Applicants: Gulf Coast Express Pipeline LLC.

Description: Tariff filing per 284.123(b),(e)/: Petition for NGPA Section 311 Rate Approval to be effective 9/25/2019.

Filed Date: 10/25/19.

Accession Number: 201910255029.

Comments/Protests Due: 5 p.m. ET 11/15/19.

Docket Numbers: RP19-1590-003.

Applicants: Honeoye Storage Corporation.

Description: Compliance filing Compliance Filing Adoption of NAESB Version 3.1 to be effective 8/1/2019.

Filed Date: 10/28/19.

Accession Number: 20191028-5026.

Comments Due: 5 p.m. ET 11/12/19.

Docket Numbers: RP20-97-000.

Applicants: Paiute Pipeline Company.

Description: § 4(d) Rate Filing: Removal of Non-conforming TSA F30 and F49 to be effective 11/1/2019.

Filed Date: 10/28/19.

Accession Number: 20191028-5084.

Comments Due: 5 p.m. ET 11/12/19.

Docket Numbers: RP20-98-000.

Applicants: Guardian Pipeline, L.L.C.

Description: § 4(d) Rate Filing: GPL Update Statement of Negotiated Rates to be effective 11/1/2019.

Filed Date: 10/28/19.

Accession Number: 20191028-5159.

Comments Due: 5 p.m. ET 11/12/19.

Docket Numbers: RP20-99-000.

Applicants: Texas Eastern Transmission, LP.

Description: § 4(d) Rate Filing: Non-conforming Agreement—PSEG ERT 400259 to be effective 10/30/2019.

Filed Date: 10/28/19.

Accession Number: 20191028-5178.

Comments Due: 5 p.m. ET 11/12/19.

Docket Numbers: RP20-100-000.

Applicants: Iroquois Gas Transmission System, L.P.

Description: § 4(d) Rate Filing: 102919 Negotiated Rates—DTE Energy Trading, Inc. H-1830-89 to be effective 11/1/2019.

Filed Date: 10/29/19.

Accession Number: 20191029-5002.

Comments Due: 5 p.m. ET 11/12/19.

Docket Numbers: RP20-101-000.

Applicants: Iroquois Gas Transmission System, L.P.

Description: § 4(d) Rate Filing: 102919 Negotiated Rates—Castleton Commodities Merchant Trading L.P. H-4010-89 to be effective 11/1/2019.

Filed Date: 10/29/19.

Accession Number: 20191029-5003.

Comments Due: 5 p.m. ET 11/12/19.

Docket Numbers: RP20-102-000.

Applicants: Iroquois Gas Transmission System, L.P.

Description: § 4(d) Rate Filing: 102919 Negotiated Rates—Twin Eagle Resource Management, LLC H-7300-89 to be effective 11/1/2019.

Filed Date: 10/29/19.

Accession Number: 20191029-5004.

Comments Due: 5 p.m. ET 11/12/19.

Docket Numbers: RP20-103-000.

Applicants: Iroquois Gas Transmission System, L.P.

Description: § 4(d) Rate Filing: 102919 Negotiated Rates—Hartree Partners, LP H-7090-89 to be effective 11/1/2019.

Filed Date: 10/29/19.

Accession Number: 20191029-5011.

Comments Due: 5 p.m. ET 11/12/19.

Docket Numbers: RP20-104-000.

Applicants: Iroquois Gas Transmission System, L.P.

Description: § 4(d) Rate Filing: 102918 Negotiated Rates—Mercuria Energy America, Inc. H-7540-89 to be effective 11/1/2019.

Filed Date: 10/29/19.

Accession Number: 20191029-5014.

Comments Due: 5 p.m. ET 11/12/19.

Docket Numbers: RP20-105-000.

Applicants: Viking Gas Transmission Company.

Description: Compliance filing 2018-2019 Gas Sales and Purchases Report to be effective N/A.

Filed Date: 10/29/19.

Accession Number: 20191029-5027.

Comments Due: 5 p.m. ET 11/12/19.

Docket Numbers: RP20-106-000.

Applicants: Guardian Pipeline, L.L.C.

Description: Compliance filing 2018-2019 Gas Sales and Purchases Report.

Filed Date: 10/29/19.

Accession Number: 20191029-5030.

Comments Due: 5 p.m. ET 11/12/19.

Docket Numbers: RP20-107-000.

Applicants: OkTex Pipeline Company, L.L.C.

Description: Compliance filing 2018-2019 Gas Sales and Purchases Report.

Filed Date: 10/29/19.

Accession Number: 20191029-5031.

Comments Due: 5 p.m. ET 11/12/19.

Docket Numbers: RP20-108-000.

Applicants: Iroquois Gas Transmission System, L.P.

Description: § 4(d) Rate Filing: 102919 Negotiated Rates—Emera Energy Services, Inc. R-2715-38 to be effective 11/1/2019.

Filed Date: 10/29/19.

Accession Number: 20191029-5032.

Comments Due: 5 p.m. ET 11/12/19.

Docket Numbers: RP20-109-000.

Applicants: Midwestern Gas Transmission Company.

Description: Compliance filing 2018-2019 Gas Sales and Purchases Report.

Filed Date: 10/29/19.

Accession Number: 20191029-5044.

Comments Due: 5 p.m. ET 11/12/19.

Docket Numbers: RP20-110-000.

Applicants: Midwestern Gas Transmission Company.

Description: Compliance filing 2018-2019 Cashout Report.

Filed Date: 10/29/19.

Accession Number: 20191029-5046.

Comments Due: 5 p.m. ET 11/12/19.

Docket Numbers: RP20-111-000.

Applicants: Wyoming Interstate Company, L.L.C.

Description: § 4(d) Rate Filing: Non-Conforming Neg Rate Agreement Filing (BHSC #215933-FTMWIC) to be effective 12/1/2019.

Filed Date: 10/29/19.

Accession Number: 20191029-5064.

Comments Due: 5 p.m. ET 11/12/19.

Docket Numbers: RP20-112-000.

Applicants: Algonquin Gas Transmission, LLC.

Description: § 4(d) Rate Filing: Negotiated Rates—Colonial Gas releases to UGI to be effective 11/1/2019.

Filed Date: 10/29/19.

Accession Number: 20191029-5069.

Comments Due: 5 p.m. ET 11/12/19.

Docket Numbers: RP20-113-000.

Applicants: Southern Star Central Gas Pipeline, Inc.

Description: § 4(d) Rate Filing: Vol 2-Neg and Conforming Rate Agreements-Tenaska and Spotlight PLS to be effective 11/1/2019.

Filed Date: 10/29/19.

Accession Number: 20191029-5128.

Comments Due: 5 p.m. ET 11/12/19.

Docket Numbers: RP20-114-000.

Applicants: El Paso Natural Gas Company, L.L.C.

Description: § 4(d) Rate Filing: Non-Conforming Agreements Filing (SWG 2019) to be effective 11/1/2019.

Filed Date: 10/29/19.

Accession Number: 20191029-5130.

Comments Due: 5 p.m. ET 11/12/19.

Docket Numbers: RP20-115-000.

Applicants: Gulf South Pipeline Company, LP.

Description: § 4(d) Rate Filing: Cap Rel Neg Rate Agmt (JERA 46435 to EDF 51653) to be effective 11/1/2019.

Filed Date: 10/30/19.

Accession Number: 20191030-5001.

Comments Due: 5 p.m. ET 11/12/19.

Docket Numbers: RP20-116-000.

Applicants: Gulf South Pipeline Company, LP.

Description: § 4(d) Rate Filing: Cap Rel Neg Rate Agmts (Atlanta Gas 8438 releases eff 11-1-2019) to be effective 11/1/2019.

Filed Date: 10/30/19.

Accession Number: 20191030-5002.

Comments Due: 5 p.m. ET 11/12/19.

Docket Numbers: RP20-117-000.

Applicants: Gulf South Pipeline Company, LP.

Description: § 4(d) Rate Filing: Cap Rel Neg Rate Agmt (Atmos 45527 to Trans Louisiana 51695) to be effective 11/1/2019.

Filed Date: 10/30/19.

Accession Number: 20191030-5003.

Comments Due: 5 p.m. ET 11/12/19.

Docket Numbers: RP20-118-000.

Applicants: Texas Eastern Transmission, LP.

Description: § 4(d) Rate Filing: Negotiated Rate—EQT ro UGI 8960463 eff 11-1-19 to be effective 11/1/2019.

Filed Date: 10/30/19.

Accession Number: 20191030-5008.

Comments Due: 5 p.m. ET 11/12/19.

Docket Numbers: RP20-119-000.

Applicants: Texas Eastern Transmission, LP.

Description: § 4(d) Rate Filing: Negotiated Rate—MC Global to Eco Energy 8960364 eff 11-1-19 to be effective 11/1/2019.

Filed Date: 10/30/19.

Accession Number: 20191030-5041.

Comments Due: 5 p.m. ET 11/12/19.

Docket Numbers: RP20-120-000.

Applicants: Dauphin Island Gathering Partners.

Description: § 4(d) Rate Filing: Negotiated Rate Filing—Apache 10-30-2019 to be effective 11/1/2019.

Filed Date: 10/30/19.

Accession Number: 20191030-5067.

Comments Due: 5 p.m. ET 11/12/19.

Docket Numbers: RP20-121-000.

Applicants: Texas Eastern Transmission, LP.

Description: § 4(d) Rate Filing: Negotiated Rates—Gulfport 911377 release eff 11-1-19 to be effective 11/1/2019.

Filed Date: 10/30/19.

Accession Number: 20191030-5083.

Comments Due: 5 p.m. ET 11/12/19.

Docket Numbers: RP20-122-000.

Applicants: Algonquin Gas Transmission, LLC.

Description: § 4(d) Rate Filing: Negotiated Rates—Baystate 510804 release eff 11-1-19 to be effective 11/1/2019.

Filed Date: 10/30/19.

Accession Number: 20191030-5086.

Comments Due: 5 p.m. ET 11/12/19.

Docket Numbers: RP20-123-000.

Applicants: Algonquin Gas Transmission, LLC.

Description: § 4(d) Rate Filing: Negotiated Rates—Bay State 510066 release eff 11-1-19 to be effective 11/1/2019.

Filed Date: 10/30/19.

Accession Number: 20191030-5092.

Comments Due: 5 p.m. ET 11/12/19.

Docket Numbers: RP20-124-000.

Applicants: Cimarron River Pipeline, LLC.

Description: § 4(d) Rate Filing: Negotiated Rate Filing 10-30-2019 to be effective 11/1/2019.

Filed Date: 10/30/19.

Accession Number: 20191030-5103.

Comments Due: 5 p.m. ET 11/12/19.

Docket Numbers: RP20-125-000.

Applicants: NEXUS Gas Transmission, LLC.

Description: § 4(d) Rate Filing: Negotiated Rates—Columbia Gas 860005 Nov 1 Releases to be effective 11/1/2019.

Filed Date: 10/30/19.

Accession Number: 20191030-5113.

Comments Due: 5 p.m. ET 11/12/19.

Docket Numbers: RP20-126-000.

Applicants: Algonquin Gas Transmission, LLC.

Description: § 4(d) Rate Filing: Negotiated Rates—Boston Gas 510798 releases eff 11-1-19 to be effective 11/1/2019.

Filed Date: 10/30/19.

Accession Number: 20191030-5131.

Comments Due: 5 p.m. ET 11/12/19.

Docket Numbers: RP20-127-000.

Applicants: Stagecoach Pipeline & Storage Company LLC.

Description: § 4(d) Rate Filing: Stagecoach Pipeline & Storage Company LLC—Filing of Negotiated Rate Agreement to be effective 11/1/2019.

Filed Date: 10/30/19.

Accession Number: 20191030-5159.

Comments Due: 5 p.m. ET 11/12/19.

Docket Numbers: RP20-128-000.

Applicants: Algonquin Gas Transmission, LLC.

Description: § 4(d) Rate Filing: Negotiated Rates—Boston Gas 510807 releases eff 11-1-19 to be effective 11/1/2019.

Filed Date: 10/30/19.

Accession Number: 20191030-5161.

Comments Due: 5 p.m. ET 11/12/19.

Docket Numbers: RP20-129-000.

Applicants: LA Storage, LLC.

Description: § 4(d) Rate Filing: Filing of Negotiated Rate, Conforming IW Agreement (ConocoPhillips) to be effective 11/1/2019.

Filed Date: 10/30/19.

Accession Number: 20191030-5196.

Comments Due: 5 p.m. ET 11/12/19.

Docket Numbers: RP20-130-000.

Applicants: Texas Eastern Transmission, LP.

Description: § 4(d) Rate Filing: Negotiated Rates—ConocoPhillips contract 911702 to be effective 11/1/2019.

Filed Date: 10/30/19.

Accession Number: 20191030-5201.

Comments Due: 5 p.m. ET 11/12/19.

Docket Numbers: RP20-131-000.

Applicants: Enable Mississippi River Transmission, LLC.

Description: § 4(d) Rate Filing: MRT Rate Case 2019 to be effective 12/1/2019.

Filed Date: 10/30/19.

Accession Number: 20191030-5202.

Comments Due: 5 p.m. ET 11/12/19.

Docket Numbers: RP20-132-000.

Applicants: Trailblazer Pipeline Company LLC.

Description: § 4(d) Rate Filing: Neg Rate 2019-10-30 8 Ks (4 new, 2 Segment 4 Segment 10) to be effective 11/1/2019.

Filed Date: 10/30/19.

Accession Number: 20191030-5212.

Comments Due: 5 p.m. ET 11/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2019.
Nathaniel J. Davis, Sr.,
Deputy Secretary.

[FR Doc. 2019-24207 Filed 11-5-19; 8:45 am]

BILLING CODE 6717-01-P